INTERNATIONAL TRADE COMMISSION

[Investigations Nos. 701-TA-376, 377, 379 and 731-TA-788-793 (Review)]

Certain Stainless Steel Plate From Belgium, Canada, Italy, Korea, South Africa, and Taiwan

AGENCY: United States International Trade Commission.

ACTION: Revised schedule for the subject reviews.

EFFECTIVE DATE: May 2, 2005.

FOR FURTHER INFORMATION CONTACT: Debra Baker (202-205-3180), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: Effective August 26, 2004, the Commission established a schedule for the conduct of the subject reviews (69 FR 53946, September 3, 2004); that schedule was subsequently revised, effective January 21, 2005 (70 FR 3944, January 27, 2005), to reschedule the Commission's hearing. The Commission is further revising its schedule to extend the period of time before the final release of information to parties and the date when final party comments are due.

The Commission's new schedule for the reviews is as follows: the Commission will make its final release of information on May 25, 2005; and final party comments are due on May 27, 2005.

For further information concerning these reviews see the Commission's notices cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

Issued: May 3, 2005.
By order of the Commission.
Marilyn R. Abbott,
Secretary to the Commission.

[FR Doc. 05-9135 Filed 5-5-05; 8:45 am]

BILLING CODE 7020-02-P